ENVIRONMENTAL PROTECTION AGENCY

[ER-FRL-6651-8]

Environmental Impact Statements; Notice of Availability

Responsible Agency: Office of Federal Activities, General Information, (202) 564-7167 or http://www.epa.gov/compliance/nepa/.

Weekly receipt of Environmental Impact Statements

Filed May 17, 2004 Through May 21, 2004

Pursuant to 40 CFR 1506.9.

The following Federal Register Report should have appeared in the May 28, 2004 Federal Register. The 45-day comment period and the 30-day wait period are still calculated from May 28, 2004.

EIS No. 040233, Revised Final EIS, BLM, NM, Sierra and Otero Counties Resource Management Plan Amendment and Federal Fluid Minerals Leasing and Development, Additional Information to Improve the Public Understanding of the Proposed Plan, Implementation, Sierra and Otero Counties, NM, Wait Period Ends: June 23, 2004, Contact: Tom Phillips (505) 515-4377. This document is available on the Internet at: http://www.nm.blm.gov.

EIS No. 040234, Final EIS, AFS, WA, 49 Degrees North Mountain Resort Revised Master Development Plan, Implementation, Colville National Forest, Newport Ranger District, Stevens County, WA, Wait Period Ends: June 28, 2004, Contact: Nancy Glines (509) 447-7300. This document is available on the Internet at: http://www.fs.fed.us/r6/colville/forest/projects.

EIS No. 040235, Final EIS, AFS, MT, Basin Creek and Blacktail Hazardous Watershed Fuels Reduction Project, Implementation, Highland Mountains, Butte Ranger District, Beaverhead-Deerlodge National Forest, Butte-Silver Bow County, MT, Wait Period Ends: June 28, 2004, Contact: Karen Gallogly (406) 683-3948.

EIS No. 040236, Draft EIS, NPS, VA, Petersburg National Battlefield General Management Plan, Implementation, Petersburg, VA, Comment Period Ends: July 30, 2004, Contact: Bob Kirby (804) 732-3571. This document is available on the Internet at: http//www.nps.gov/pete.

EIS No. 040237, Draft EIS, BIA, NV, Weber Dam Repair and Modification Project, Propose to Repair and Modify Dam, Walker River Paiute Tribe, Right-of-Way Grant and U.S. Army COE Section 404 Permit, Walker River Valley, Lyon and Mineral Counties, NV, Comment Period Ends: July 26, 2004, Contact: Amy L. Heuslein (602) 379-6750.

EIS No. 040238, Draft EIS, FHW, AR, I-69 Section of Independent Utility 13 EL Dorado to McGehee, Construction of Four-Lane Divided Access Facility, U.S. Coast Guard Bridge Permit, NPDES Permit and U.S. Army COE Section 404 Permit, Quachita River, Quachita, Union, Calhoun, Bradley Drew and Desha Counties, AR, Comment Period Ends: July 19, 2004, Contact: Randal Looney (501) 324-6430.

EIS No. 040239, Final EIS, BIA, UT, Tekoi Balefill Project on the Skull Valley Band of Goshute Indians Reservation, Approval of Long-Term Lease of Indian Land for a Commercial Solid Waste Disposal Facility, Salt Lake City, Tooele County, UT, Wait Period Ends: June 28, 2004, Contact: Amy L. Heuslein (602) 379-6750.

EIS No. 040240, DRAFT EIS, HUD, NY, Ridge Hill Village Project, Construction, Comprehensive Development Plan, (CDP), Planned Mixed-Use Development District (PMD), U.S. Army COE Section 404, City of Yonkers, Westchester County, NY, Comment Period Ends: July 12, 2004, Contact: Lee J. Ellman (914) 377-6558.

EIS No. 040241, Final EIS, USA, HI, Transformation of the 2nd Brigade, 25th Infantry Division (Light) to a Stryker Brigade Combat Team in Hawai'i, Implementation, Honolulu and Hawai'i Counties, HI, Wait Period Ends: June 28, 2004, Contact: Cindy Barger (808) 438-4812.

EIS No. 040242, Draft Supplement, FHW, NY, NY-9A Reconstruction Project, West Thames Street to Chambers Street in Lower Manhattan the Result of September 11, 2001 Attack, Lower Manhattan Redevelopment, New York County, NY, Comment Period Ends: July 28, 2004, Contact: Robert Arnold (518) 431-4127. This document is available on the Internet at: http://www.route9a.info.

EIS No. 040243, Draft EIS, NOA, Reef Fish Fishery Management Plan (FMP) Amendment 23, To Set Vermilion Snapper Sustainable Fisheries Act Targets and Thresholds and to Establish a Plan to End Overfishing and Rebuild the Stock, Gulf of Mexico, Comment Period Ends: July 14, 2004, Contact: Peter Hood (727) 570-5305. This document is available on the Internet at: http://caldera.sero.nmfs.gov.

EIS No. 040244, Final EIS, IBR, WA, Banks Lake Drawdown Project, Proposal to Lower the Water Surface Elevation from 1565 feet to 1560 feet in August of Each Year, Columbia River, Douglas and Grant Counties, WA, Wait Period Ends: June 28, 2004, Contact: Jim Blanchard (509) 754-0226.

EIS No. 040245, Final EIS, AFS, UT, Bear Hodges II Timber Sale Management Plan, Selective Timber Harvest of Spruce Stands With or Without Road Construction, Implementation, Wasatch National Forest (WCNF), Logan Ranger District, Cache and Rich Counties, UT, Wait Period Ends: June 28, 2004, Contact: Tom Scott (801) 625-5404. This document is available on the Internet at: http://www.fs.fed.us/r4/ucnf/projects.

EIS No. 040246, Final EIS, GSA, DC, Southeast Federal Center Development, Land Transfer for Mixed-Use Development of Residences, Offices, Shops, a Waterfront Park and Cultural Amenities, Implementation, DC, Wait Period Ends: June 28, 2004, Contact: Arthur Turowski (202) 708-5891.

EIS No. 040247, Final EIS, SFW, CA, Multiple Habitat Conservation Program for Threatened and Endangered Species Due to the Urban Growth within the Planning Area, Adoption and Incidental Take Permits Issuance, San Diego County, CA, Wait Period Ends: June 28, 2004, Contact: Lee Ann Carranza (760) 431-9440.

EIS No. 040248, Final EIS, FRC, CT, Housatonic River Hydroelectric Project, Application to Relicense Existing Licenses for Housatonic Project No. 2576-022 and the Falls Village Project No. 2597-019, Housatonic River Basin, Fairfield, New Haven and Litchfield Counties, CT, Wait Period Ends: June 28, 2004, Contact: Jack Duckworth (202) 502-6392.

EIS No. 040249, Final EIS, AFS, ID, Mission Brush Project, Proposes Vegetation, Wildlife Habitat, Recreation and Aquatic Improvement Treatments, Idaho Panhandle National Forests, Bonners Ferry Ranger District, Bounty County, ID, Wait Period Ends: June 28, 2004, Contact: Dough Nishek (208) 267-5561.

Amended Notices

EIS No. 040167, Draft Supplement, COE, CA, U.S. Army National Training Center, Proposed Addition of Maneuver Training Land at Fort Irwin, Implementation, San Bernardino County, CA, Comment Period Ends: June 16, 2004, Contact: Ray Marler (760) 380-3035. Revision of FR Notice Published on 4/16/2004: CEQ Comment Period Ending on 06/1/2004 has been Extended to 6/16/2004.

EIS No. 040213, Draft EIS, FHW, CA, South Orange County Transportation Infrastructure Improvement Project, To Locate, Construct and Operate Transportation Improvements, Orange and San Diego Counties, CA, Comment Period Ends: August 6, 2004, Contact: Maiser Khaled (949) 754-3481. Revision of FR Notice Published on 5/07/2004: CEQ Comment Period Ending 7/7/2004 has been Extended to 8/6/2004.

Dated: May 28, 2004.
Ken Mittelholtz,
Environmental Protection Specialist, Office of Federal Activities.

[FR Doc. 04-12618 Filed 6-3-04; 8:45 am]

BILLING CODE 6560-50-P